FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

ACM Logistics & Consulting, Inc. (OFF), 19221 IH-45 South, #185, The Woodlands, TX 77385, Officer: John C. Heimsath, President (QI), Application Type: New OFF License;

Airlift (U.S.A.), Inc. dba Airlift Container Line (NVO & OFF), 11099 S. La Cienega Blvd., Suite 151, Los Angeles, CA 90045, Officer: Ganesh Murthy, President (QI), Application Type: Add OFF Service;

Americas Interactiva, Inc. (OFF), 8810 Commodity Circle, #30, Orlando, FL 32819, Officers: Francisco J. Seijas, President (QI), Glendys D. Gonzalez, Vice President, Application Type: New OFF License;

Asecomer International Corporation dba Interworld Freight Inc., dba Junior Cargo, Inc. dba Intercontinental Lines Corp. (NVO & OFF), 8225 NW 80th Street, Miami, FL 33166, Officers: John O. Crespo, President (QI), Graciela Crespon, Application Type: Add OFF Service;

Atpex Logistica Corp (NVO & OFF), 908 E. Osceola Parkway, Kissimmee, FL 34744, Officers: Douglas Hernandez, President (QI), Irrael Dominguez, Vice President, Application Type: New NVO & OFF License;

Cars U.S.A., Inc. (NVO & OFF), 3640 South Fulton Avenue, #1209, Hapeville, GA 30354, Officers: Oy P. McPeters, Assistant Secretary (QI), Jeremy Bullock, President, Application Type: New NVO & OFF License;

Don Kennon McSwain dba Ship A Pallet (OFF), 16840 Clay Road, #118, Houston, TX 77084, Officer: Don K. McSwain, Sole Proprietor, Application Type: New OFF License;

Highland Project Logistics, Inc. (NVO & OFF), 35 Constitution Drive, Suite A, Bedford, NH 03110, Officer: Radek Maly, President (QI), Application Type: New NVO & OFF License;

Hybrid International Forwarding, LLC (NVO & OFF), 1222 Virginia Avenue NE., #C, Atlanta, GA 30306, Officer: Andy Heller, Member (QI), Application Type: New NVO & OFF License;

International Van Lines, Inc. dba IVL (NVO), 3957 NW 126th Avenue, Coral Springs, FL 33065, Officer: Joshua Morales, President (QI), Application Type: New NVO License;

Koch Maritime, Inc (NVO & OFF), 2230 Energy Park Drive, St. Paul, MN 55108, Officers: Yvonne M. Ecklund, Vice President (QI), Randy Koch, CEO, Application Type: QI Change;

Nippon Concept America, LLC (OFF), 2203 Timberloch Place, Suite 218D, The Woodlands, TX 77380, Officers: Jeffrey K. Bonner, Special Manager (QI), Martine L. Plunkett, Manager, Application Type: Additional QI;

Radiant Global Logistics, Inc. dba Radiant Container Lines (NVO & OFF), 405 114th Avenue SE., Third Floor, Bellevue, WA 98004, Officers: Michael Von Loesch, Vice President (QI), Bohn H. Crain, President, Application Type: Add OFF Service;

Royal Shipping Company, LLC (NVO), 491 North James Road, Columbus, OH 43219, Officer: Nicholas Armah, Managing Member (QI), Application Type: New NVO License;

Star Cluster Logistics (NVO & OFF), 263 E. Gardena Blvd., Gardena, CA 90248, Officers: James J. Park, Vice President (QI), Hee Kab Park, CEO, Application Type: New NVO & OFF License;

TC Shipping LLC (OFF), 206 Central Place, Orange, NJ 07050, Officers: Terry Christie, Managing Member (QI), Coretta General, Member, Application Type: New OFF License;

Vector Global Logistics LLC (NVO & OFF), 887 West Marietta Street NW., #M201, Atlanta, GA 30318, Officers: Marshall W. Martin, Manager (QI), Brian R. Oxley, Manager, Application Type: New NVO & OFF License;

Worldwide Freight LLC (OFF), 800 Grotto Street North, Saint Paul, MN 55106, Officers: Kimberly A. Coppola, Secretary (QI), Todd R. Nimmo, President, Application Type: New OFF License.

By the Commission.
Dated: October 25, 2012.
Karen V. Gregory,
Secretary.

[FR Doc. 2012-26701 Filed 10-30-12; 8:45 am]

BILLING CODE 6730-01-P